DEPARTMENT OF THE INTERIOR

National Park Service

[NPS-WASO-NAGPRA-17700; PPWOCRADN0-PCU00RP14.R50000]

Notice of Inventory Completion: U.S. Department of the Interior, National Park Service, Tuzigoot National Monument, Camp Verde, AZ, and the Arizona State Museum, University of Arizona, Tucson, AZ

AGENCY: National Park Service, Interior.

ACTION: Notice.

SUMMARY: The U.S. Department of the Interior, National Park Service, Tuzigoot National Monument, and the Arizona State Museum, University of Arizona, have completed inventories of human remains and associated funerary objects, in consultation with the appropriate Indian tribes or Native Hawaiian organizations, and each has determined that there is a cultural affiliation between the human remains and associated funerary objects and present-day Indian tribes or Native Hawaiian organizations. Lineal descendants or representatives of any Indian tribe or Native Hawaiian organization not identified in this notice that wish to request transfer of control of these human remains and associated funerary objects should submit a written request to either Tuzigoot National Monument or the Arizona State Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of the associated funerary objects that are under the control of Tuzigoot National Monument should contact Tuzigoot National Monument at the address in this notice by May 1, 2015.

Lineal descendants or representatives of any Indian tribe or Native Hawaiian organization not identified in this notice that wish to request transfer of control of the human remains and associated funerary objects that are under the control of the Arizona State Museum should contact the Arizona State Museum at the address below by May 1, 2015.

ADDRESSES: Dorothy FireCloud, Superintendent, Tuzigoot National Monument, P.O. Box 219, Camp Verde, AZ 86322, telephone (928) 567-5276, email dorothy_firecloud@nps.gov. John McClelland, NAGPRA Coordinator, Arizona State Museum, University of Arizona, P.O. Box 210026, Tucson, AZ 85721, telephone (520) 626-2950, email jmcclell@email.arizona.edu.

SUPPLEMENTARY INFORMATION: Notice is here given in accordance with the Native American Graves Protection and Repatriation Act (NAGPRA), 25 U.S.C. 3003, of the completion of an inventory of associated funerary objects under the control of the U.S. Department of the Interior, National Park Service, Tuzigoot National Monument, Camp Verde, AZ, and the completion of an inventory of human remains and associated funerary objects under the control of the Arizona State Museum, University of Arizona, Tucson, AZ, and in the physical custody of the U.S. Department of the Interior, National Park Service, Western Archeological and Conservation Center, Tucson, AZ. The human remains and associated funerary objects were removed from two sites in Yavapai County, AZ.

This notice is published as part of the National Park Service's administrative responsibilities under NAGPRA, 25 U.S.C. 3003(d)(3). The determinations in this notice regarding the associated funerary objects under the control of Tuzigoot National Monument are the sole responsibility of the Superintendent, Tuzigoot National Monument. The determinations in this notice regarding the human remains and associated funerary objects under the control of the Arizona State Museum are the sole responsibility of the Arizona State Museum.

Consultation

A detailed assessment of the human remains was made by Tuzigoot National Monument and the Arizona State Museum professional staff in consultation with representatives of the Ak Chin Indian Community of the Maricopa (Ak Chin) Indian Reservation, Arizona; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico (hereafter referred to as “The Tribes”).

History and Description of the Remains

Tuzigoot Pueblo and Hatalacva Pueblo, in the Verde Valley of Arizona, were excavated in 1933 and 1934 by University of Arizona graduate students, Louis Caywood and Edward Spicer, when the sites were on private land. The human remains and a small number of artifacts were accessioned by the Arizona State Museum in 1934. The rest of the artifacts were taken to a private museum in Clarkdale, AZ. After Tuzigoot National Monument was established in 1939, many of the artifacts held by the private museum were transferred to Tuzigoot National Monument. These included some funerary objects that were once associated with human remains that remained under the control of the Arizona State Museum. In 2012, human remains and funerary objects under the control of the Arizona State Museum were transferred to the physical custody of the Western Archeological and Conservation Center.

Collections Under the Control of Tuzigoot National Monument

In 1933 and 1934, human remains were removed from Tuzigoot Pueblo in Yavapai County, AZ. The remains are under the control of the Arizona State Museum and are described below. The 29 associated funerary objects under the control of Tuzigoot National Monument are 15 bowls, 8 pendants, 1 bracelet, 2 necklaces, 1 pitcher, 1 bone tool and 1 matting fragment.

In 1933 and 1934, human remains were removed from Hatalacva Pueblo in Yavapai County, AZ. The remains are under the control of the Arizona State Museum and are described below. The seven associated funerary objects under the control of Tuzigoot National Monument are five bowls, one pendant and one necklace.

Collections Under the Control of the Arizona State Museum

In 1933 and 1934, human remains representing, at minimum, 114 individuals were removed from Tuzigoot Pueblo in Yavapai County, AZ. No known individuals were identified. The three associated funerary objects under the control of the Arizona State Museum are one bowl, one lot of shell beads, and one bracelet.

In 1933 and 1934, human remains representing, at minimum, 14 individuals were removed from Hatalacva Pueblo in Yavapai County, AZ. No known individuals were identified. The three associated funerary objects under the control of the Arizona State Museum are shell bracelets.

Tuzigoot Pueblo is a large pueblo with more than 100 rooms, which is classified by archeologists as Southern Sinagua, Honanki and Tuzigoot phases. Occupation dates range from A.D. 1125 to A.D. 1425. Hatalacva Pueblo is a small, multi-room pueblo near Tuzigoot National Monument, also classified as Southern Sinagua, Honanki and Tuzigoot phases.

The Ak Chin Indian Community of Maricopa (Ak Chin) Reservation, Arizona; Gila River Indian Community of the Gila River Indian Reservation, Arizona; Salt River Pima-Maricopa Indian Community of the Salt River Reservation, Arizona; and the Tohono O'odham Nation of Arizona comprise one cultural group known as the O'odham. Material culture items found at the sites, including associated funerary objects, demonstrate continuity between the people of Tuzigoot and Hatalacva pueblos and the O'odham. These items include plain woven textiles, coiled basketry, and twill matting that display similar design motifs and construction styles as historic and contemporary O'odham items. Additionally, locally made plainware ceramics are similar in construction and appearance to plainware ceramics made in lands attributed to the Hohokam archeological culture, commonly considered to be ancestral O'odham. Consultation with O'odham tribes also indicates that oral traditions exist that describe ancestral O'odham people living in the Verde Valley.

The Fort McDowell Yavapai Nation, Arizona traces ancestry to Yavapai bands once living in the Verde Valley. Consultation with Yavapai tribes indicates the existence of specific ancestral names for the Tuzigoot and Hatalacva sites and a belief that ancestors lived near the sites. Archeological sites identified as Yavapai have also been found near the Tuzigoot and Hatalacva Pueblos. Material culture items found at Hatalacva and Tuzigoot, including basketry and turquoise pendants, are similar in construction and appearance to historic Yavapai items. Additionally, Hatalacva and Tuzigoot are identified as being within the Yavapai traditional lands.

The Hopi Tribe of Arizona considers all of Arizona to be within traditional Hopi lands or within areas where Hopi clans migrated in the past. Evidence demonstrating continuity between the people of Tuzigoot and Hatalacva Pueblos and the Hopi Tribe includes archeological, anthropological, linguistic, folkloric and oral traditions. Ceramic vessels made only on the Hopi mesas as well as plain woven and painted textiles, coiled basketry, and woven matting demonstrate continuity between Tuzigoot, Hatalacva, and Hopi people. Burial patterns noted at Tuzigoot are also similar in appearance to burials at other ancestral Hopi sites. During consultation, Hopi clan members also identified ancestral names and traditional stories about specific events and ancestral people at each site.

The Yavapai-Prescott Indian Tribe (previously listed as the Yavapai-Prescott Tribe of the Yavapai Reservation, Arizona) traces ancestry to Yavapai bands once living in the Verde Valley. Consultation with Yavapai tribes indicates the existence of specific ancestral names for the Tuzigoot and Hatalacva sites and a belief that ancestors lived near the sites. Archeological sites identified as Yavapai have also been found in and near the Tuzigoot and Hatalacva Pueblos. Material culture items found at Tuzigoot and Hatalacva including basketry, turquoise pendants, and twill matting, are similar in construction and appearance to historic Yavapai items. Additionally, Tuzigoot and Hatalacva are identified as being within the Yavapai traditional lands.

The Zuni Tribe of the Zuni Reservation, New Mexico, considers the Verde Valley to be within the migration path of ancestral Zuni people. Archeological evidence demonstrates continuity between the people of Tuzigoot and Hatalacva Pueblos and the people of Zuni. Material culture items, such as ceramic designs, textiles, and woven basketry, are similar in appearance and construction to historic Zuni items.

Determinations Made by Tuzigoot National Monument

Officials of Tuzigoot National Monument have determined that:

• Pursuant to 25 U.S.C. 3001(3)(A), the 36 objects described in this notice under the control of Tuzigoot National Monument are reasonably believed to have been placed with or near individual human remains at the time of death or later as part of the death rite or ceremony.

• Pursuant to 25 U.S.C. 3001(2), there is a relationship of shared group identity that can be reasonably traced between the associated funerary objects under the control of Tuzigoot National Monument and The Tribes.

Determinations Made by the Arizona State Museum

Officials of the Arizona State Museum have determined that:

• Pursuant to 25 U.S.C. 3001(9), the human remains described in this notice under the control of the Arizona State Museum represent the physical remains of 128 individuals of Native American ancestry.

• Pursuant to 25 U.S.C. 3001(3)(A), the six objects described in this notice under the control of the Arizona State Museum are reasonably believed to have been placed with or near individual human remains at the time of death or later as part of the death rite or ceremony.

• Pursuant to 25 U.S.C. 3001(2), there is a relationship of shared group identity that can be reasonably traced between the Native American human remains and associated funerary objects under the control of the Arizona State Museum and The Tribes.

Additional Requestors and Disposition

Lineal descendants or representatives of any Indian tribe or Native Hawaiian organization not identified in this notice that wish to request transfer of control of the associated funerary objects under the control of Tuzigoot National Monument should submit a written request with information in support of the request to Dorothy FireCloud, Superintendent, Tuzigoot National Monument, P.O. Box 219, Camp Verde, AZ 86322, telephone (928) 567-5276, email dorothy_firecloud@nps.gov, by May 1, 2015.

Lineal descendants or representatives of any Indian tribe or Native Hawaiian organization not identified in this notice that wish to request transfer of control of the human remains and associated funerary objects under the control of the Arizona State Museum should submit a written request with information in support of the request to John McClelland, NAGPRA Coordinator, Arizona State Museum, University of Arizona, P.O. Box 210026, Tucson, AZ 85721, telephone (520) 626-2950, email jmcclell@email.arizona.edu, by May 1, 2015.

After that date, if no additional requestors have come forward, transfer of control of the human remains and associated funerary objects to The Tribes may proceed.

Tuzigoot National Monument and the Arizona State Museum are responsible for notifying The Tribes that this notice has been published.

Dated: February 17, 2015.
Melanie O'Brien,
Acting Manager, National NAGPRA Program.

[FR Doc. 2015-07412 Filed 3-31-15; 8:45 am]

BILLING CODE 4312-50-P